DEPARTMENT OF DEFENSE

Corps of Engineers, Department of the Army

Draft Environmental Impact Statement for the Preparation of a Special Area Management Plan and Associated 404 Permit Actions for the San Juan Creek and Western San Mateo Creek Watersheds, Orange County, CA

AGENCY: U.S. Army Corps of Engineers, DOD.

ACTION: Revised Notice of Intent (NOI).

SUMMARY: The Corps of Engineers (Corps) published a Notice of Intent to prepare a Draft Environmental Impact Statement (DEIS) in the Federal Register (Vol. 66, No. 76, pages 20135-20136) on April 19, 2001, for a Special Area Management Plan (SAMP) within the San Juan Creek and western San Mateo Creek Watersheds. The Notice of Intent stated that the eventual document would be a joint state and federal document in coordination with the California Department of Fish and Game (Department). The Department intended to prepare an Environmental Impact Report (EIR) in accordance with the California Environmental Quality Act for the Department's proposed Master Streambed Alteration Agreement (MSAA), a proposed state program analogous to the SAMP. It is now necessary to revise the Notice of Intent to reflect that the doucment will now be a federal document and not a joint federal and state document.

Scoping commenced on April 19, 2001 with the publication of the original Notice of Intent in the Federal Register. In addition, the Corps issued a special public notice on the SAMP dated April 18, 2001, to the general public. A public scoping meeting was held on May 8, 2001, in San Juan Capistrano, California. All comments received during the special public notice comment period between April 19, 2001, and May 18, 2001, and during the public meetings are being considered in this process. A new scoping period is not being started with the revised NOI.

FOR FURTHER INFORMATION CONTACT: Mr. Jae Chung, Regulatory Branch, CESPL-CO-RS, U.S. Army Corps of Engineers, Los Angeles District, 915 Wilshire Boulevard, Los Angeles, California 90017.

SUPPLEMENTARY INFORMATION: The Corps is developing the SAMP to address issues under Section 404 of the federal Clean Water Act for waters of the U.S., including wetlands, subject to the Corps' jurisdiction. The Department is also developing a parallel process known as the MSAA to address issues under Section 1600 et seq. of the state Fish and Game Code for streambeds subject to the Department's jurisdiction. The original Notice of Intent reported the Corps' intent to prepare a joint document (EIS/EIR) with the Department to address common issues for the SAMP and MSAA processes.

It subsequently was decided that the EIS for the SAMP document and associated Section 404 permit actions would be solely a federal document. The MSAA would be better analyzed in the joint EIS/EIR document for the Natural Community Conservation Program (NCCP)/Habitat Conservation Plan (HCP) for the South Subregion of Orange County, a comprehensive planning process prepared in conjunction with the U.S. Fish and Wildlife Service to address long-term protection of sensitive species. Given the Department's participation in the NCCP/HCP, the analysis of the MSAA is more appropriate in the context of the Department's larger, more comprehensive role in the NCCP.

The Corps will continue to coordinate with the Department and with the U.S. Fish and Wildlife Service to address issues common among the SAMP, the MSAA, and the NCCP/HCP. All three agencies will continue to communicate on refining alternatives and long-term management plans for natural resources, which should be conserved under these plans. The Corps may publish the draft EIS for the SAMP before the draft EIR/EIS document for the MSAA and the NCCP/HCP. Completion of a SAMP final EIS document is contingent upon completion of consultation with the U.S. Fish and Wildlife Service pursuant to Section 7 of the federal Endangered Species Act, because the SAMP and associated Section 404 permit actions may affect listed threatened and/or endangered species and/or adversely modify the critical habitat of listed threatened and/or endangered species.

The draft EIS is expected to be issued for public review in Fall 2005.

James A. DeLapp,
Major, U.S. Army, Acting District Engineer.

[FR Doc. 05-9465 Filed 5-11-05; 8:45 am]

BILLING CODE 3710-92-M